DEPARTMENT OF HOUSING AND URBAN DEVELOPMENT

[Docket No. FR-5376-N-69]

Notice of Submission of Proposed Information Collection to OMB Emergency Comment Request, Capital Fund Education and Training Community Facilities (CFCF)

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: August 3, 2010.

ADDRESSES: Interested persons are invited to submit comments regarding this proposal. Comments must be received within seven (7) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Reports Management Officer, QDAM, Department of Housing and Urban Development, 451 Seventh Street, SW., Washington, DC 20410; e-mail: Leroy.MkinneyJR@hud.gov; telephone (202) 402-5564. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Capital Fund Education and Training Community Facilities (CFCF)

Description of Information Collection: This is a new information collection. The Department of Housing and Urban Development Appropriations Act, 2010 Public Law 111-117, enacted on December 16, 2009, permits the HUD Secretary to use up the $40,000,000 of the Capital Fund appropriations for grant funding to develop facilities to provide early childhood education, adult education, and/or job training programs for public housing residents based on an identified need. PHAs may use funds for construction of new facilities, rehabilitation of existing facilities, or rehabilitation of vacant space. These facilities will offer comprehensive, integrated supportive services to help public housing residents achieve better educational and economic outcomes resulting in long-term economic self-sufficiency. The actual Notice of Funding Availability (NOFA) will contain the selection criteria for awarding Capital Fund Education and Training community Facilities grants and specific requirements that will apply to selected grantees.

OMB Control Number: 2577-New.

Agency Form Numbers: HUD-2990, HUD-50075.1., SF-424, SF-LLL, HUD forms can be obtained at: http://portal.hud.gov/portal/page/portal/HUD/program_offices/administration/hudclips/forms.

Members of Affected Public: Business or other for-profit, State, Local Government.

Estimation of the total numbers of hours needed to prepare the information collection including number of respondents, frequency of responses, and hours of responses: The estimated number of respondents is 300; the frequency of response is 1 per year; 47.75 hours per response, for burden hours of 14,325.

Total Estimated Burden Hours: 14,325.

Status of the proposed information collection: New collection.

Authority: The Paperwork Reduction Act of 1995, 44 U.S.C. Chapter 35, as amended.

Dated: July 22, 2010.
Leroy McKinney Jr.,
Departmental Reports Management Officer, Office of the Chief Information Officer.

[FR Doc. 2010-18417 Filed 7-26-10; 8:45 am]

BILLING CODE 4210-67-P